DEPARTMENT OF COMMERCE

National Oceanic and Atmospheric Administration

[RTID 0648-XU011]

Meeting of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will hear presentations and discuss COVID-19 impacts on marine communities and agency operations, the E.O. Promoting American Seafood competitiveness and Economic Growth, seafood promotion and marketing in the U.S., and recommendations related to offshore wind citing and operations.

DATES: The meeting will be June 29, 12:30-5 p.m.; and June 30 and July 1, 2020, 1-4:30 p.m., Eastern Time.

ADDRESSES: Meeting is by webinar and teleconference.

FOR FURTHER INFORMATION CONTACT: Heidi Lovett; NOAA Fisheries Office of Policy; (301) 427-8034; email: Heidi.Lovett@noaa.gov.

SUPPLEMENTARY INFORMATION: Notice is hereby given of a meeting of MAFAC. The MAFAC was established by the Secretary of Commerce (Secretary), and, since 1971, advises the Secretary on all living marine resource matters that are the responsibility of the Department of Commerce. The MAFAC charter and summaries of prior MAFAC meetings are located online at https://www.fisheries.noaa.gov/topic/partners#marine-fisheries-advisory-committee.

Matters To Be Considered

This meeting time and agenda are subject to change. The meeting is convened to hear presentations and updates and to discuss policies and guidance on the following topics: Impacts of COVID-19 on marine communities and agency operations, regulatory programs, and science operations; the new E.O. Promoting American Seafood Competitiveness and Economic Growth; seafood promotion and marketing in the U.S.; and recommendations related to offshore wind citing and operations and reducing impacts for fishing and marine science operations. MAFAC will receive updates on the phase 2 work of Columbia Basin Partnership Task Force. MAFAC will discuss various administrative and organizational matters, and meetings of subcommittees and working groups will be convened.

Time and Date

The meeting is scheduled for June 29, 12:30-5 p.m.; and June 30 and July 1, 2020, 1-4:30 p.m., Eastern Time by webinar and conference call. Access information for the public will be posted at https://www.fisheries.noaa.gov/national/partners/marine-fisheries-advisory-committee-meeting-materials-and-summaries by June 22, 2020.

Dated: June 8, 2020.
Jennifer L. Lukens,
Federal Program Officer, Marine Fisheries Advisory Committee, National Marine Fisheries Service.

[FR Doc. 2020-12643 Filed 6-10-20; 8:45 am]

BILLING CODE 3510-22-P